EQUAL EMPLOYMENT OPPORTUNITY COMMISSION

Agency Information Collection Activities

AGENCY: Equal Opportunity Commission.

ACTION: Notice of information collection—no change: Local Union Report (EEO-3).

SUMMARY: In accordance with section 3506(c)(2)(A) of the Paperwork Reduction Act of 1995, the Equal Employment Opportunity Commission (EEOC) announces that it intends to submit to the Office of Management and Budget (OMB) a request for a one-year extension of the existing collection as described below.

DATES: Written comments on this notice must be submitted on or before November 7, 2003.

ADDRESSES: Comments should be sent to Frances M. Hart, Executive Officer, Executive Secretariat, Equal Employment Opportunity Commission, 10th Floor, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittals will not be acknowledged, except that the sender may request confirmation of receipt by calling the Executive Secretariat staff at (202) 663-4070 (voice) or (202) 663-4074 (TDD). (These are not toll-free telephone numbers.) Copies of comments submitted by the public will be available for review at the Commission's library, Room 6502, 1801 L Street, NW., Washington, DC 20507 between the hours of 9:30 a.m. and 5 p.m.

FOR FURTHER INFORMATION CONTACT: Joachim Neckere, Director, Program Research and Surveys Division, 1801 L Street, NW., Room 9220, Washington, DC 20507; (202) 663-4958 (voice) or (202) 663-7063 (TDD).

SUPPLEMENTARY INFORMATION: The Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

Collection Title: Local Union Report (EEO-3).

OMB Number: 3046-0006.

Frequency of Report: Biennial.

Type of Respondent: Referral local unions with 100 or more members.

Description of Affected Public: Referral local unions and independent or unaffiliated referral unions and similar labor organizations.

Responses: 3,000.

Reporting Hours: 3,000 (4,500 including recordkeeping).

Cost to Respondents: $67,500.

Federal Cost: $50,000 (Annualized).

Number of Forms: 1.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations which set forth the reporting requirements for various kinds of labor organizations—Referral local unions with 100 or more members have been required to submit EEO-3 reports since 1967 (biennially since 1986). The individual reports are confidential.

EEO-3 data are used by the EEOC to investigate charges of discrimination against referral local unions. In addition, the data are used to support EEOC decisions and conciliations, and for research. Pursuant to section 709(d) of Title VII of the Civil Rights Act of 1964, as amended, EEO-3 data are also shared with 86 State and Local Fair Employment Practices Agencies (FEPAs) and other government agencies.

Burden Statement: The respondent burden for this information collection is minimal. The estimated number of respondents included in the biennial EEO-3 survey is 3,000 referral unions. Since each union files one EEO-3 report, the number of responses is 3,000. The biennial reporting is estimated to take 3,000 hours, and total biennial reporting and recordkeeping is 4,500 hours.

Dated: August 29, 2003.
For the Commission.
Cari M. Dominguez,
Chair.

[FR Doc. 03-22719 Filed 9-5-03; 8:45 am]

BILLING CODE 6750-01-M